DEPARTMENT OF ENERGY

Federal Energy Regulatory Commission

18 CFR Part 35

[Docket No. RM18-9-002; Order No. 2222-A]

Participation of Distributed Energy Resource Aggregations in Markets Operated by Regional Transmission Organizations and Independent System Operators; Correction

AGENCY: Federal Energy Regulatory Commission.

ACTION: Final rule; correction.

SUMMARY: The Federal Energy Regulatory Commission published a document in the Federal Register of March 30, 2021 concerning arguments raised on rehearing of its final rule amending its regulations to remove barriers to the participation of distributed energy resource aggregations in the capacity, energy, and ancillary service markets operated by Regional Transmission Organizations and Independent System Operators. The document contained an error.

DATES: This correction is effective June 1, 2021.

FOR FURTHER INFORMATION CONTACT: Christopher Chaulk (Legal Information), Office of the General Counsel—Energy Markets, Federal Energy Regulatory Commission, 888 First Street NE, Washington, DC 20426, (202) 502-6720.

SUPPLEMENTARY INFORMATION:

Correction

In FR Doc. 2021-06089 (174 FERC ¶ 61,197) beginning on page 16511 in the issue of Tuesday, March 30, 2021, make the following correction: On page 16527, in the third column, in the 21st line, in the Words of Issuance, the text “the Commission is proposing to amend . . .” is corrected to read “the Commission is amending. . . .”

Dated: April 15, 2021.
Kimberly D. Bose,
Secretary.

[FR Doc. 2021-08132 Filed 4-20-21; 8:45 am]

BILLING CODE 6717-01-P